COMMISSION ON CIVIL RIGHTS

Sunshine Act Notice

AGENCY: United States Commission on Civil Rights.

ACTION: Notice of business meeting.

Date and Time: Friday, September 19, 2014; 9:30 a.m. EST.

Place: 1331 Pennsylvania Ave. NW., Suite 1150, Washington, DC 20425.

Meeting Agenda

I. Approval of Agenda

II. Management and Operations

• Staff Director's Report

III. State Advisory Committee (SAC) Appointments

• Alaska

• Montana

• New Mexico

• Wyoming

V. Adjourn Meeting

Contact Person for Further Information: Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: September 9, 2014.
Marlene Sallo,
Staff Director.

[FR Doc. 2014-21846 Filed 9-9-14; 4:15 pm]

BILLING CODE 6335-01-P